DEPARTMENT OF DEFENSE

Department of the Army

32 CFR Parts 626 and 627

The Biological Defense Safety Program and Technical Safety Requirements

AGENCY: Department of the Army, DOD.

ACTION: Final rule; removals.

SUMMARY: The Department of the Army is removing its regulations concerning the biological Defense Safety Program and its requirements because it is now superseded through consolidation with other Army safety regulations into Army Regulation (AR) 385-10, Army Safety Program and does not affect the general public.

EFFECTIVE DATE: December 8, 2006.

FOR FURTHER INFORMATION CONTACT: Mr. Kenneth W. Proper, (703) 601-2408.

SUPPLEMENTARY INFORMATION: The Office of the Director of Army Safety (DACS-SF), is the proponent for the regulation represented by 32 CFR Part 626 and the DA PAM represented by 32 CFR 627. The Office of the Director of Army Safety has consolidated the Army regulation, represented by 32 CFR Part 626 into AR 385-10, Army Safety Program. This regulation was extensively revised during the consolidation process, and the new consolidated regulation does not affect the general public.

The Office of the Director of Army Safety has extensively revised the DA PAM, represented by 32 CFR 627 to reflect the consolidation effect and to update it to address new biological safety techniques and requirements and determined that the revised DA PAM does not affect the general public.

List of Subjects in 32 CFR Parts 626 and 627

Biologics, Government contracts, Hazardous substances, National defense, Occupational safety and health, Research.

PART 626 AND 627—[REMOVED]

Accordingly, for reasons stated in the preamble, under the authority of 5 U.S.C. 102, 10 U.S.C. 21, 111, 151-158, 42 U.S.C. 216; sec. 361, 50 U.S.C. 1431, Pub. L. 101-510, 104 Stat. 1516, 58 Stat. 703 and 264; 49 U.S.C. App 1803, 1804, 1807, and 1808, 29 CFR 1910. 1450(e), 32 CFR Part 626, Biological Defense Safety Program and 32 CFR Part 627, The Biological Defense Safety Program, Technical Safety Requirements (DA Pamphlet 385-69), are removed in their entirety.

Brenda S. Bowen,
Army Federal Register Liaison Officer.

[FR Doc. 06-9598 Filed 12-7-06; 8:45 am]

BILLING CODE 3710-08-M